ENVIRONMENTAL PROTECTION AGENCY

[FRL-9912-75-OEI]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et. seq.). An agency may not conduct or sponsor, and a person is not required to respond to, a collection of information unless it displays a currently valid OMB control number. The OMB control numbers for EPA regulations are listed in 40 CFR part 9 and 48 CFR chapter 15.

FOR FURTHER INFORMATION CONTACT: Courtney Kerwin (202) 566-1669, or email at kerwin.courtney@epa.gov and please refer to the appropriate EPA Information Collection Request (ICR) Number.

SUPPLEMENTARY INFORMATION:

OMB Responses to Agency Clearance Requests

OMB Approvals

EPA ICR Number 1249.10; Requirements for Certified Applicators Using 1080 Collars for Livestock Protection; was approved on 05/01/2014; OMB Number 2070-0074; expires on 05/31/2017; Approved without change.

EPA ICR Number 2274.04; NESHAP for Clay Ceramics Manufacturing, Glass Manufacturing and Secondary Nonferrous Metals Processing Area Sources; 40 CFR part 63, subparts RRRRRR, SSSSSS, and TTTTTT; was approved on 05/13/2014; OMB Number 2060-0606; expires on 05/31/2016; Approved without change.

EPA ICR Number 1811.09; NESHAP for Polyether Polyols Production; 40 CFR part 63 subpart PPP; was approved on 05/13/2014; OMB Number 2060-0415; expires on 05/31/2017; Approved without change.

EPA ICR Number 2364.04; Alternative Affirmative Defense Requirements for Ultra-low Sulfur Diesel (Renewal); 40 CFR part 80.613; was approved on 05/21/2014; OMB Number 2060-0639; expires on 05/31/2017; Approved without change.

EPA ICR Number 1907.06; Recordkeeping and Reporting Requirements Regarding the Sulfur Content of Motor Vehicle Gasoline under the Tier 2 Rule; 40 CFR parts 80, subpart H, 80.210, 80.270, 80.330, 80.370, 80.340, 80.415, 80.400; and 80.380; was approved on 05/27/2014; OMB Number 2060-0437; expires on 05/31/2017; Approved without change.

EPA ICR Number 2398.03; Regulation of Fuels and Fuel Additives: 2011 Renewable Fuel Standards—Petition for International Aggregate Compliance Approach; 40 CFR part 80; was approved on 05/28/2014; OMB Number 2060-0655; expires on 05/31/2017; Approved without change.

Comment Filed

EPA ICR Number 2491.01; Agricultural Worker Protection Standard Training and Notification (Proposed Rule Replacement ICR); 40 CFR parts 170, 170.103, 170.109, 170.11(a), 170.11(b), 170.13(f), 170.13(h), 170.13(i), 170.13(l), 170.203(b), 170.207(d)(8), 170.305(a), 170.305(b), 170.305(c), 170.307(d)(3), 170.309(c), 170.9(g), 170.9(i), and 170.9(k); OMB filed comment on 05/01/2014.

Spencer W. Clark,
Acting Director, Collection Strategies Division.

[FR Doc. 2014-14830 Filed 6-24-14; 8:45 am]

BILLING CODE 6560-50-P